DEPARTMENT OF AGRICULTURE

Farm Service Agency

Information Collection; Direct Loan Making

AGENCY: Farm Service Agency, USDA.

ACTION: Notice; request for comments.

SUMMARY: In accordance with the Paperwork Reduction Act of 1995, the Farm Service Agency (FSA) is seeking comments from all interested individuals and organizations on an extension with revision of a currently approved information collection that supports Direct Loan Making programs. The information is used to determine borrower compliance with loan agreements, assist the borrower in achieving business goals, and regular servicing of the loan account such as graduation, subordination, partial release, and use of proceeds.

DATES: We will consider comments that we receive by July 12, 2010.

ADDRESSES: We invite you to submit comments on this notice. In your comments, include date, volume, the OMB control Number and the title of the information collection and page number of this issue of the Federal Register. You may submit comments by any of the following methods:

• Mail: Danny Jackson, Loan Specialist, USDA/FSA/FLP, STOP 0522, 1400 Independence Avenue, SW., Washington, DC 20250-0522.

• E-mail: danny.jackson@wdc.usda.gov.

• Fax: 202-720-6797.

You may also send comments to the Desk Officer for Agriculture, Office of Information and Regulatory Affairs, Office of Management and Budget, Washington, DC 20503. Copies of the information collection may be requested by contacting Danny Jackson at the above address.

FOR FURTHER INFORMATION CONTACT: Danny Jackson, Loan Specialist, Farm Service Agency, (202) 720-0588.

SUPPLEMENTARY INFORMATION: Title: (7 CFR 764) Farm Loan Programs Direct Loan Making.

OMB Number: 0560-0237.

Expiration Date: 11/30/2010.

Type of Request: Extension with revision.

Abstract: FSA's Farm Loan Programs provide loans to family farmers to purchase real estate and equipment, and finance agricultural production. Direct Loan Making, as specified in 7 CFR part 764, provides the requirements associated with direct loans. FSA is required to actively supervise its borrowers and provide credit counseling, management advice, and financial guidance. Additionally, FSA must document that credit is not available to the borrower from commercial credit sources in order to maintain eligibility for assistance. Direct loan making information collection requirements include financial and production records of the operation to ensure that cash flow projections are based on actual production history, a loan is adequately secured, the applicant meets established eligibility requirements, and assignments on income and sales can be obtained when appropriate.

Respondents: Individuals or households, businesses or other for profit farms.

Estimate of Average Time to Respond: .52 hour.

Estimated Annual Number of Respondents: 145,201.

Estimated Number of Reponses per Respondent: 3.87.

Total Annual Responses: 561,362.

Estimated Total Annual Burden Hours: 289,632.

We are requesting comments on all aspects of this information collection and to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed at Washington, DC, on May 5, 2010.
Jonathan W. Coppess,
Administrator, Farm Service Agency.

[FR Doc. 2010-11225 Filed 5-11-10; 8:45 am]

BILLING CODE 3410-05-P